DEPARTMENT OF ENERGY

Federal Energy Regulatory Commission

Combined Notice of Filings #2

Take notice that the Commission received the following electric rate filings:

Docket Numbers: ER10-2435-020.

Applicants: Camden Plant Holding, L.L.C.

Description: Compliance filing: Informational Filing to be effective N/A.

Filed Date: 10/16/20.

Accession Number: 20201016-5129.

Comments Due: 5 p.m. ET 11/6/20.

Docket Numbers: ER10-2442-017.

Applicants: Elmwood Park Power, LLC.

Description: Compliance filing: Informational Filing to be effective N/A.

Filed Date: 10/16/20.

Accession Number: 20201016-5133.

Comments Due: 5 p.m. ET 11/6/20.

Docket Numbers: ER10-2444-019.

Applicants: Newark Bay Cogeneration Partnership, L.P.

Description: Compliance filing: Informational Filing to be effective N/A.

Filed Date: 10/16/20.

Accession Number: 20201016-5135.

Comments Due: 5 p.m. ET 11/6/20.

Docket Numbers: ER16-2438-004.

Applicants: Pedricktown Cogeneration Company LP.

Description: Compliance filing: Informational Filing to be effective N/A.

Filed Date: 10/16/20.

Accession Number: 20201016-5136.

Comments Due: 5 p.m. ET 11/6/20.

Docket Numbers: ER19-482-001.

Applicants: LMBE Project Company LLC.

Description: Compliance filing: Informational Filing to be effective N/A.

Filed Date: 10/16/20.

Accession Number: 20201016-5139.

Comments Due: 5 p.m. ET 11/6/20.

Docket Numbers: ER20-1140-001.

Applicants: H.A. Wagner LLC.

Description: Compliance filing: Informational Filing to be effective N/A.

Filed Date: 10/16/20.

Accession Number: 20201016-5138.

Comments Due: 5 p.m. ET 11/6/20.

Docket Numbers: ER21-130-000.

Applicants: New York Independent System Operator, Inc.

Description: § 205(d) Rate Filing: 205 filing NYISO exigent circumstances ICAP Demand Curve gas price logic to be effective 10/21/2020.

Filed Date: 10/16/20.

Accession Number: 20201016-5116.

Comments Due: 5 p.m. ET 10/21/20.

Docket Numbers: ER21-131-000.

Applicants: Pacific Gas and Electric Company.

Description: § 205(d) Rate Filing: Balancing Accounts Update 2021 (TRBAA, RSBAA, ECRBAA) to be effective 1/1/2021.

Filed Date: 10/16/20.

Accession Number: 20201016-5134.

Comments Due: 5 p.m. ET 11/6/20.

Docket Numbers: ER21-132-000.

Applicants: Public Service Company of Colorado.

Description: § 205(d) Rate Filing: 2020-10-16_PSCo-PSCoES-PLGIA-591-0.0.0 to be effective 10/17/2020.

Filed Date: 10/16/20.

Accession Number: 20201016-5140.

Comments Due: 5 p.m. ET 11/6/20.

Docket Numbers: ER21-133-000.

Applicants: HDSI, LLC.

Description: Initial rate filing: Market-Based Rate Application to be effective 12/16/2020.

Filed Date: 10/16/20.

Accession Number: 20201016-5141.

Comments Due: 5 p.m. ET 11/6/20.

Docket Numbers: ER21-134-000.

Applicants: Tri-State Generation and Transmission Association, Inc.

Description: § 205(d) Rate Filing: Rate Schedule FERC No. 316 between Tri-State and JMEC to be effective 12/16/2020.

Filed Date: 10/16/20.

Accession Number: 20201016-5161.

Comments Due: 5 p.m. ET 11/6/20.

Docket Numbers: ER21-135-000.

Applicants: EDF Trading North America, LLC.

Description: Compliance filing: Compliance Justification filing to be effective N/A.

Filed Date: 10/16/20.

Accession Number: 20201016-5163.

Comments Due: 5 p.m. ET 11/6/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 16, 2020.
Nathaniel J. Davis, Sr.,
Deputy Secretary.

[FR Doc. 2020-23403 Filed 10-21-20; 8:45 am]

BILLING CODE 6717-01-P